DEPARTMENT OF LABOR

Office of the Secretary

Submission for OMB Review: Comment Request

May 24, 2007.

The Department of Labor (DOL) has submitted the following public information collection request (ICR) to the Office of Management and Budget (OMB) for review and approval in accordance with the Paperwork Reduction Act of 1995 (Pub. L. 104-13, 44 U.S.C. Chapter 35). A copy of this ICR, with applicable supporting documentation, may be obtained at http://www.reginfo.gov/public/do/PRAMain, or contact Ira Mills on 202-693-4122 (this is not a toll-free number) or E-mail: Mills.Ira@dol.gov.

Comments should be sent to the Office of Information and Regulatory Affairs, Attn: OMB Desk Officer for U.S. Department of Labor/Office of Disability Employment Policy (ODEP), Office of Management and Budget, Room 10235, Washington, DC 20503, 202-395-7316 (this is not a toll free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submission of responses.

Agency: Office of Disability Employment Policy.

Type of Review: New Collection.

Title: Survey of Employer Perspectives on the Employment of People with Disabilities.

OMB Number: 1230—0NEW.

Frequency: On occasion.

Affected Public: Business or other for-profit; Not-for-profit institutions; Farms; Federal Government; and State, Local, or Tribal Government.

Type of Response: Reporting.

Number of Respondents: 3,600.

Annual Responses: 3,600.

Average Response time: 15 minutes.

Total Annual Burden Hours: 900.

Total Annualized Capital/Startup Costs: $54,270.

Total Annual Costs (operating/maintaining systems or purchasing services): $575,254.

Description: The U.S. Department of Labor, Office of Disability Employment Policy (ODEP), under the Omnibus Appropriations Resolution, 2003, Public Law 1087; Consolidated Appropriations Act, 2001, Public Law 106-554, 29 U.S.C. 557b, proposes to conduct a survey of employers' perceptions on the employment of people with disabilities. The proposed survey of employers will build on the findings of previous employer surveys, with an emphasis on current attitudes and practices of employers in 12 industry sectors, including some high growth industries as projected by the Bureau of Labor Statistics. ODEP is also interested in understanding employers' perspectives about disability employment by company size and individuals at different levels organizationally within a given employer e.g., Executive, Human Resources and Equal Employment Opportunity, front line supervisor or manager). The survey will be conducted by telephone by a survey firm utilizing computer assisted telephone interviewing capability.

Ira L. Mills,
Departmental Clearance Officer/ Team Leader.

[FR Doc. E7-10362 Filed 5-30-07; 8:45 am]

BILLING CODE 4510-CX-P